DEPARTMENT OF THE INTERIOR

Fish and Wildlife Service

[FWS-R4-OSA-2022-N054; FF04S00000 223 FXSC14200400000; OMB Control Number 1018-New]

Agency Information Collection Activities; Submission to the Office of Management and Budget for Review and Approval; Southeast Conservation Adaptation Strategy (SECAS) Social Network Analysis Survey

AGENCY: Fish and Wildlife Service, Interior.

ACTION: Notice of information collection; request for comment.

SUMMARY: In accordance with the Paperwork Reduction Act of 1995, we, the U.S. Fish and Wildlife Service (Service), are proposing a new information collection.

DATES: Interested persons are invited to submit comments on or before November 28, 2022.

ADDRESSES: Written comments and recommendations for the proposed information collection should be sent within 30 days of publication of this notice to https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-SECAS” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA, 44 U.S.C. 3501 et seq.) and its implementing regulations at 5 CFR 1320.8(d)(1), all information collections require approval under the PRA. We may not conduct or sponsor and you are not required to respond to a collection of information unless it displays a currently valid OMB control number.

On July 6, 2022, we published a Federal Register notice with a 60-day public comment period soliciting comments on this collection of information (87 FR 40261). In that notice, we solicited comments for 60 days, ending on September 6, 2022. In an effort to increase public awareness of, and participation in, our public commenting processes associated with information collection requests, the Service also published the Federal Register notice on https://www.regulations.gov [Docket No. FWS-R4-OSA-2022-0086]. We received one comment in response to that notice which did not address the information collection requirements; therefore, no response was required.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Fish and Wildlife Act of 1956 (16 U.S.C. 742d) designates the Department of the Interior as a key agency responsible for the conservation and protection of wildlife and fisheries resources in the United States. This responsibility requires the Service to gather accurate data on conservation efforts through means such as research to improve the development, management, and advancement of efforts. The Service's Science Applications and Migratory Bird Program in the Service's Southeast Region is seeking to conduct a social network analysis to collect information regarding regional conservation efforts, conservation partnership goals, structure, and focal geography, and the connectedness of these efforts and partnerships. The proposed survey collects information necessary to address this gap in understanding and will serve to advance the Southeast Conservation Adaptation Strategy's (SECAS) leadership role as a regional forum and decision-support hub.

The proposed survey collects the following information:

• Familiarity and engagement with SECAS, including satisfaction with SECAS aspects and importance of SECAS indicators (section 2);

• Organizational conservation priorities, including level of importance and usefulness of and reliance on SECAS resources (section 3);

• Conservation partnerships, including identification of partner organizations and collaboration types (section 4); and

• Organizational information, including type of organization and scope of work (section 5).

The information collected in this effort will be used to develop multiple products aimed at translating the data into information that can strengthen partnerships, identify gaps, and inform conservation decisions.

The public may request a copy of the proposed survey instrument by sending a request to the Service Information Collection Clearance Officer (see ADDRESSES, above).

Title of Collection: Southeast Conservation Adaptation Strategy (SECAS) Social Network Analysis.

OMB Control Number: 1018-New.

Form Number: None.

Type of Review: New.

Respondents/Affected Public: Leaders and executives in the private sector and State, local, and Tribal governments in the Service's Southeast Region.

Total Estimated Number of Annual Respondents: 200 (100 private sector entities and 100 State/local/Tribal governments).

Total Estimated Number of Annual Responses: 200.

Estimated Completion Time per Response: 15 minutes.

Total Estimated Number of Annual Burden Hours: 50.

Respondent's Obligation: Voluntary.

Frequency of Collection: One time.

Total Estimated Annual Nonhour Burden Cost: There is no cost associated with the survey.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2022-23488 Filed 10-27-22; 8:45 am]

BILLING CODE 4333-15-P